FEDERAL COMMUNICATIONS COMMISSION

[Report No. 2721]

Petitions for Reconsideration of Action in Rulemaking Proceeding

July 12, 2005.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by August 4, 2005. See Section 1.4(b)(1) of the Commission's rules (47 CFR 1.4(b)(1)). Replies to an opposition must be filed within 10 days after the time for filing oppositions have expired.

Subject: In the Matter of Flexibility for Delivery of Communications by Mobile Satellite Service Providers in the 2 GHz Band, the L-Band, and the 1.6/2.4 GHz Bands (IB Docket 01-185).

Number of Petitions Filed: 1.

Subject: In the Matter of Facilitating Opportunities for Flexible, Efficient and Reliable Spectrum Use Employing Cognitive Radio Technologies (ET Docket 03-108).

Number of Petitions Filed: 2.

Marlene H. Dortch,
Secretary.

[FR Doc. 05-13971 Filed 7-19-05; 8:45 am]

BILLING CODE 6712-01-P